DEPARTMENT OF HEALTH AND HUMAN SERVICES

Centers for Disease Control and Prevention

Meeting Notice

The National Center for Environmental Health (NCEH) of the Centers for Disease Control and Prevention (CDC) announces the following meeting.

Name: Current Status of the Vessel Sanitation Program (VSP) and Experience to Date with Program Operations—public meeting between CDC and the cruise ship industry, private sanitation consultants, and other interested parties.

Time and Date: 9 a.m.-4 p.m., April 27, 2004.

Place: Auditorium, Port Everglades Administration Building, 1850 Eller Drive, Ft. Lauderdale, Florida 33316.

Status: Open to the public, limited by the space available. The meeting room accommodates approximately 100 people.

Purpose: During the past 18 years, as part of the revised VSP, CDC has conducted a series of public meetings with members of the cruise ship industry, private sanitation consultants, and other interested parties. This meeting is a continuation of that series of public meetings to discuss current status of VSP and experience to date with programs operations.

Matters to be discussed but are not limited to: 2003 Program Review; plans to revise the Operations Manual 2000; plans to revise the “Construction Guidelines”; updates on outbreaks and Norovirus.

The official record of this meeting will remain open for a period of 15 days following the meeting (through May 12, 2004) so that additional materials or comments may be submitted to be made part of the record of the meeting.

Advanced registration is encouraged. Please provide the following information: Name, title, company name, mailing address, telephone number, facsimile number and e-mail address to Lisa Beaumier, at 770-488-7138, fax: 770-488-4127, or lbeaumier@cdc.gov. If you need additional information, please contact Lisa Beaumier (contact information provided above).

The Director, Management Analysis and Services Office, has been delegated the authority to sign Federal Register notices pertaining to announcements of meetings and other committee management activities for both CDC and the Agency for Toxic Substances and Disease Registry.

Dated: March 18, 2004.
Alvin Hall,
Director, Management Analysis and Services Office, Centers for Disease Control and Prevention.

[FR Doc. 04-6527 Filed 3-25-04; 8:45 am]

BILLING CODE 4163-18-P